INTERNATIONAL TRADE COMMISSION

[USITC SE-19-008]

Government in the Sunshine Act Meeting Notice

Agency Holding the Meeting: United States International Trade Commission.

TIME AND DATE: April 4, 2019 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 731-TA-1435-1440 (Preliminary) (Acetone from Belgium, Korea, Saudi Arabia, Singapore, South Africa, and Spain). The Commission is currently scheduled to complete and file its determinations on April 5, 2019; views of the Commission are currently scheduled to be completed and filed on April 12, 2019.

5. Outstanding action jackets: None.

In accordance with Commission policy, subject matter listed above, not disposed of at the scheduled meeting, may be carried over to the agenda of the following meeting.

By order of the Commission.
Issued: March 25, 2019.
William Bishop,
Supervisory Hearings and Information Officer.

[FR Doc. 2019-06051 Filed 3-26-19; 11:15 am]

BILLING CODE 7020-02-P